DEPARTMENT OF TRANSPORTATION

Federal Aviation Administration

14 CFR Part 17

[Docket No. FAA-2017-0075]

Office Relocation

AGENCY: Federal Aviation Administration (FAA), DOT.

ACTION: Final rule.

SUMMARY: On November 1, 2016, the FAA Office of Dispute Resolution for Acquisition (ODRA), which is now part of the FAA Office of Adjudication, relocated to a new address different from the one listed in its Procedural Regulations. This rule updates the address for ODRA filings by hand delivery, courier or other form of in-person delivery and the address for ODRA filings by U.S. Mail. The telephone and facsimile numbers are unchanged.

DATES: This rule is effective March 21, 2017.

FOR FURTHER INFORMATION CONTACT: Marie A. Collins, Administrative Judge and Dispute Resolution Officer, FAA Office of Dispute Resolution for Acquisition, AGC-70, 600 Independence Avenue SW., Room 2W100, Washington, DC 20591, telephone number (202) 267-3290, facsimile (202) 267-3720.

SUPPLEMENTARY INFORMATION: The new address for ODRA filings by hand delivery, courier or other form of in-person delivery is: 600 Independence Avenue SW., Room 2W100, Washington, DC 20591. The new address for ODRA filings by U.S. Mail is: 800 Independence Avenue SW., Washington, DC 20591 [Attention: AGC-70, Wilbur Wright Bldg., Room 2W100].

List of Subjects in 14 CFR Part 17

Administrative practice and procedure, Authority delegations (Government agencies), Government contracts.

The Amendment

For the reasons discussed in the preamble, 14 CFR part 17 is amended as follows:

PART 17—PROCEDURES FOR PROTESTS AND CONTRACT DISPUTES

1. The authority citation for part 17 continues to read as follows:

Authority: 5 U.S.C. 570-581, 49 U.S.C. 106(f)(2), 40110, 40111, 40112, 46102, 46014, 46105, 46109, and 46110.

2. In § 17.15, revise paragraph (b) to read as follows:

§ 17.15 Filing a protest.

* * * * *

(b) Protests shall be filed with the ODRA, AGC-70, Federal Aviation Administration, telephone (202) 267-3290 as follows:

(1) 600 Independence Avenue SW., Room 2W100, Washington, DC 20591 for filing by hand delivery, courier or other form of in-person delivery;

(2) 800 Independence Avenue SW., Washington, DC 20591 [Attention: AGC-70, Wilbur Wright Bldg., Room 2W100] for filing by U.S. Mail; or

(3) Numbers (202) 267-3720 or alternate (202) 267-1293 for filing by facsimile.

* * * * *

3. In § 17.27, revise paragraph (b) to read as follows:

§ 17.27 Filing a contract dispute.

* * * * *

(b) Contract Disputes shall be filed with the ODRA, AGC-70, Federal Aviation Administration, telephone (202) 267-3290 as follows:

(1) 600 Independence Avenue SW., Room 2W100, Washington, DC 20591 for filing by hand delivery, courier or other form of in-person delivery;

(2) 800 Independence Avenue SW., Washington, DC 20591 [Attention: AGC-70, Wilbur Wright Bldg., Room 2W100] for filing by U.S. Mail; or

(3) Numbers (202) 267-3720 or alternate (202) 267-1293 for filing by facsimile.

* * * * *

4. In § 17.59, revise paragraph (b) to read as follows:

§ 17.59 Filing a Pre-dispute.

* * * * *

(b) Pre-disputes shall be filed with the ODRA, AGC-70, Federal Aviation Administration, telephone (202) 267-3290 as follows:

(1) 600 Independence Avenue SW., Room 2W100, Washington, DC 20591 for filing by hand delivery, courier or other form of in-person delivery;

(2) 800 Independence Avenue SW., Washington, DC 20591 [Attention: AGC-70, Wilbur Wright Bldg., Room 2W100] for filing by U.S. Mail; or

(3) Numbers (202) 267-3720 or alternate (202) 267-1293 for filing by facsimile.

* * * * *

Issued in Washington, DC, on March 13, 2017.
Anthony N. Palladino,
Director and Administrative Judge, Office of Dispute Resolution for Acquisition.

[FR Doc. 2017-05517 Filed 3-20-17; 8:45 am]

BILLING CODE 4910-13-P